DEPARTMENT OF COMMERCE

National Oceanic and Atmospheric Administration

[Docket No. 080626787-81262-05]

RIN 0648-ZB96

Availability of Grants Funds for Fiscal Year 2009

AGENCY: National Ocean Service (NOS), National Oceanic and Atmospheric Administration (NOAA), Commerce

ACTION: Notice

SUMMARY: The National Oceanic and Atmospheric Administration, National Ocean Service, publishes this notice on the Modeling the Causes of Hypoxia component of the Northern Gulf of Mexico program to extend the original proposal due date.

DATES: The new deadline for the receipt of proposals is 3 p.m. EST, November 20, 2008, for both electronic and paper applications.

ADDRESSES: The address for submitting proposals electronically is: http://www.grants.gov/. (Electronic submission is strongly encouraged). Paper submissions should be sent to the attention of, Center for Sponsored Coastal Ocean Research (N/SCI2), National Oceanic and Atmospheric Administration, 1305 East-West Highway, SSMC4, 8th Floor Station 8240, Silver Spring, MD 20910.

FOR FURTHER INFORMATION CONTACT: Libby Jewett, (libby.jewett@noaa.gov, 301-713-3338 x 121).

SUPPLEMENTARY INFORMATION: This program was originally solicited in the Federal Register on July 11, 2008, as part of the July 2008 NOAA Omnibus solicitation. The original deadline for receipt of proposals was 3 p.m., EST, on October 20, 2008. NOAA is extending the solicitation period to provide the public more time to submit proposals. The new deadline for the receipt of proposals is November 20, 2008, for both electronic and paper applications. All other requirements for this solicitation remain the same.

Award Notices

The notice of award is signed by the NOAA Grants Officer and is the authorizing document. It is provided by postal mail or electronically through the Grants Online system to the appropriate business office of the recipient organization.

Administrative and National Policy Requirements

The Department of Commerce Pre-Award Notification Requirements for Grants and Cooperative Agreements

The Department of Commerce Pre-Award Notification Requirements for Grants and Cooperative Agreements contained in the Federal Register notice of February 11, 2008 (73 FR 7696) are applicable to this solicitation.

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA Federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_mceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems).

In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

In conformance with the Uniform Administrative Requirements for Grants and Cooperative Agreements section 15 CFR 14.36, any data collected in projects supported by NCCOS/CSCOR should be delivered to a National Data Center (NDC), such as the National Oceanographic Data Center (NODC), in a format to be determined by the institution, the NDC, and the Program Officer. Information on NOAA NDCs can be found at http://www.nesdis.noaa.gov/datainfo.html. It is the responsibility of the institution for the delivery of these data; the DOC will not provide additional support for delivery beyond the award. Additionally, all biological cultures established, molecular probes developed, genetic sequences identified, mathematical models constructed, or other resulting information products established through support provided by NCCOS/CSCOR are encouraged to be made available to the general research community at no or modest handling charge (to be determined by the institution, Program Officer, and DOC).

Reporting

All performance (i.e. technical progress) reports shall be submitted electronically through the Grants Online system unless the recipient does not have internet access. In that case, performance reports are to be submitted to the NOAA program manager. All financial reports shall be submitted in the same manner.

Agency Contacts

Technical Information: Libby Jewett, Program Manager, 301-713-3338/ext 121, Internet: libby.jewett@noaa.gov

Business Management Information: Laurie Golden, NCCOS/CSCOR Grants Administrator, 301-713-3338/ext 151, Internet: laurie.golden@noaa.gov.

Other Information

Administrative Procedure Act

Notice and comment are not required under the Administrative Procedure Act, (5 U.S.C. 553), or any other law, for notices relating to public property, loans, grants, benefits or contracts (5 U.S.C. 553(a)). Because notice and comment is not required, a Regulatory Flexibility Analysis is not required and has not been prepared for this notice, (5 U.S.C. 601 et seq.).

Paperwork Reduction Act

Notwithstanding any other provision of law, no person is required to respond to, nor shall any person be subject to a penalty for failure to comply with a collection of information subject to the requirements of the Paperwork Reduction Act, unless that collection displays a currently valid OMB Control Number. This notification involves collection-of-information requirements subject to the Paperwork Reduction Act. The use of Standard Forms 424, 424A, 424B, and SF-LLL has been approved by the Office of Management and Budget (OMB) under control numbers 0348-0043, 0348-0044, 0348-0040 and 0348-0046, respectively.

Dated: September 24, 2008.
John Potts,
Chief Financial Officer, National Oceanic and Atmospheric Administration, National Ocean Service.

[FR Doc. E8-23279 Filed 10-1-08; 8:45 am]

BILLING CODE 3510-JS-S